DEPARTMENT OF THE INTERIOR

Fish and Wildlife Service

Notice of Availability of a Low-Effect Habitat Conservation Plan and Receipt of an Application for an Incidental Take Permit for Construction of a Single-Family Residential Home Site on the Dahle Property, Colorado Springs, Colorado

AGENCY: Fish and Wildlife Service, Interior.

ACTION: Notice of availability and receipt of application.

SUMMARY: This notice advises the public that Lee J. Dahle has applied to the Fish and Wildlife Service for an incidental take permit pursuant to section 10(a)(1)(B) of the Endangered Species Act (Act) of 1973, as amended. The proposed permit would authorize the incidental take of the Preble's meadow jumping mouse (Zapus hudsonius preblei), federally listed as threatened, through loss and modification of its habitat associated with construction and occupation of a residential home site at the Dahle Property, Colorado Springs, Colorado. The duration of the permit would be 5 years from the date of issuance.

We announce the receipt of the applicant's incidental take permit application that includes a proposed Low-Effect Habitat Conservation Plan (HCP) for the Preble's meadow jumping mouse for the Dahle Property. The proposed HCP is available for public comment. It fully describes the proposed project and the measures the applicant would undertake to minimize and mitigate project impacts to the Preble's meadow jumping mouse. All comments on the HCP and permit application will become part of the administrative record and will be available to the public.

DATES: Written comments on the permit application, and Habitat Conservation Plan should be received on or before June 24, 2002.

ADDRESSES: Comments regarding the permit application and HCP should be addressed to LeRoy Carlson, Field Supervisor, U.S. Fish and Wildlife Service, Colorado Field Office, 755 Parfet Street, Suite 361, Lakewood, Colorado 80215.

FOR FURTHER INFORMATION CONTACT: Ms. Kathleen Linder, Fish and Wildlife Biologist, Colorado Field Office, telephone (303) 275-2370.

SUPPLEMENTARY INFORMATION:

Document Availability

Individuals wishing copies of the HCP and associated documents for review should immediately contact the above office. Documents also will be available for public inspection, by appointment, during normal business hours at the above address.

Background

Section 9 of the Act and Federal regulation prohibit the “take” of a species listed as endangered or threatened. Take is defined under the Act, in part, as to kill, harm, or harass a federally listed species. However, the Service may issue permits to authorize “incidental take” of listed species under limited circumstances. Incidental Take is defined under the Act as take of a listed species that is incidental to, and not the purpose of, the carrying out of an otherwise lawful activity under limited circumstances. Regulations governing permits for threatened species are promulgated in 50 CFR 17.32.

The Dahle Property is located at 17 El Dorado Lane, Lot 5, Block 4 in Thunderbird Estates Subdivision, along Monument Creek, in the Section 6, Township 13 South, Range 66 West, Southwest ¼ in the Pikeview quandrangle, in the Town of Colorado Springs, El Paso County, State of Colorado. The project will involve 0.65 acres, but will directly impact a maximum of 0.15 acres that may result in incidental take of the Preble's meadow jumping mouse. The site will impact upland areas only.

Alternatives considered in addition to the Proposed Action were awaiting approval of the El Paso County Regional Habitat Conservation Plan, and no action. The last alternative eliminated potential take of Preble's. The onsite, offsite, and cumulative impacts of the proposed Project and all associated development and construction activities and mitigation activities proposed by the HCP will have no significant impact on other threatened or endangered species, vegetation, wildlife, wetlands, geology/soils, land use, water resources, air and water quality, or cultural resources. None of the proposed impacts occur within the riparian corridor. All of the proposed impacts are in upland areas inside the 100-year floodplain. Utilizing the mouse protection habitat definition, the proposed development could impact up to 0.15 acre of potential mouse habitat for the residential lot. The mitigation will likely provide a net benefit to the Preble's mouse and other wildlife by improving or creating new riparian areas, planting of native grasses, and protecting existing habitat along Monument Creek from any future development.

Only one federally listed species, the threatened Preble's meadow jumping mouse, occurs onsite and has the potential to be adversely affected by the project. To mitigate impacts that may result from incidental take, the HCP provides mitigation for the residential site by protection of the Monument Creek corridor onsite and its associated riparian areas from all future development through the enhancement of 0.5 acre through native grass planting, shrub planting, weed control, preservation in a native and unmowed condition, and the placement of the proposed building site closer to the road and farther away from mouse habitat. Measures will be taken during construction to minimize impact to the habitat including limited site access and the placement of spoils piles only at the front end of the lot, away from the creek. All of the proposed mitigation area is within the boundaries of the Dahle property, all of which is included in the drainage basin of Monument Creek.

This notice is provided pursuant to section 10(c) of the Act. We will evaluate the permit application, the Plan, and comments submitted therein to determine whether the application meets the requirements of section 10(a) of the Act. If it is determined that those requirements are met, a permit will be issued for the incidental take of the Preble's meadow jumping mouse in conjunction with the construction and occupation of a single-family residential lot on the Dahle Property. The final permit decision will be made no sooner than 30 days from the date of this notice.

Dated: May 8, 2002.
David E. Heffernan,
Acting Regional Director, Region 6.

[FR Doc. 02-13076 Filed 5-23-02; 8:45 am]

BILLING CODE 4310-55-P